DEPARTMENT OF AGRICULTURE

Foreign Agricultural Service

Trade Adjustment Assistance for Farmers

AGENCY: Foreign Agricultural Service, USDA.

ACTION: Notice.

The Administrator, Foreign Agricultural Service (FAS), today accepted a petition, and began a review of a petition, for trade adjustment assistance by the Maine Lobstermen's Association on behalf of U.S. fishermen who catch and market live lobsters (Homarus americanus). The Administrator will determine within 40 days whether or not increasing imports of live lobsters (Homarus americanus) contributed importantly to a greater than 15 percent decrease in the value of production of lobsters compared to the average of the 3 preceding marketing years. If a determination is affirmative, U.S. fishermen who catch and market live lobsters (Homarus americanus) will be eligible to apply to the Farm Service Agency for technical assistance at no cost and cash benefits.

FOR FURTHER INFORMATION CONTACT: Trade Adjustment Assistance Staff, FAS, USDA, at (202) 720-0638, or by e-mail at: tradeadjustment@fas.usda.gov. Additional program information can be obtained at the Web site for the Trade Adjustment Assistance for Farmers program. The URL is http://www.fas.usda.gov/itp/taa.

Dated: April 27, 2010.
John D. Brewer,
Administrator, Foreign Agricultural Service.

[FR Doc. 2010-10271 Filed 4-30-10; 8:45 am]

BILLING CODE 3410-10-P